DEPARTMENT OF COMMERCE

Foreign-Trade Zones Board

Order No. 1409

Approval for Expansion of Subzone 84O, ExxonMobil Corporation (Oil Refinery), Baytown, Texas

Pursuant to its authority under the Foreign-Trade Zones Act of June 18, 1934, as amended (19 U.S.C. 81a-81u), the Foreign-Trade Zones Board (the Board) adopts the following Order:

Whereas, the Port of Houston Authority, grantee of FTZ 84, has requested authority on behalf of ExxonMobil Corporation (ExxonMobil), to expand the scope of manufacturing activity conducted under zone procedures within Subzone 84O at the ExxonMobil refinery in Baytown, Texas (FTZ Docket 46-2004, filed 10/22/2004);

Whereas, notice inviting public comment has been given in the Federal Register (69 FR 64026, 11/3/2004 and 69 FR 77986, 12/29/04);

Whereas, the Board adopts the findings and recommendations of the examiner's report, and finds that the requirements of the FTZ Act and Board's regulations would be satisfied, and that approval of the application would be in the public interest if approval is subject to the conditions listed below;

Now, therefore, the Board hereby orders:

The application to expand the scope of manufacturing authority under zone procedures within Subzone 84O, is approved, subject to the FTZ Act and the Board's regulations, including § 400.28, and subject to the following conditions:

1. Foreign status (19 CFR § 146.41, 146.42) products consumed as fuel for the petrochemical complex shall be subject to the applicable duty rate.

2. Privileged foreign status (19 CFR § 146.41) shall be elected on all foreign merchandise admitted to the subzone, except that non-privileged foreign (NPF) status (19 CFR § 146.42) may be elected on refinery inputs covered under HTSUS Subheadings #2709.00.10, #2709.00.20, #2710.11.25, #2710.11.45, #2710.19.05, #2710.19.10, #2710.19.45, #2710.91.00, #2710.99.05, #2710.99.10, #2710.99.16, #2710.99.21 and #2710.99.45 which are used in the production of:

-petrochemical feedstocks (examiners report, Appendix “C”);

-products for export;

-and, products eligible for entry under HTSUS # 9808.00.30 and # 9808.00.40 (U.S. Government purchases).

Signed at Washington, DC, this 30th day of August 2005.

Joseph A. Spetrini,
Acting Assistant Secretary for Import Administration, Alternate Chairman, Foreign-Trade Zones Board.
Attest:
Dennis Puccinelli,
Executive Secretary.

[FR Doc. 05-17827 Filed 9-7-05; 8:45 am]

Billing Code: 3510-DS-S